DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for October 15-16, 2003, beginning at 9 a.m. on October 15. Arrange for oral presentations by October 10.

ADDRESSES: Aerospace Industries Association, 1000 Wilson Boulevard, Suite 1700, Arlington, VA.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held October 15-16, 2002, in Arlington, VA.

The agenda will include:

Wednesday, October 15

• Opening Remarks

• FAA Report

• European Aviation Safety Agency (EASA)/Joint Aviation Authorities (JAA) Report

• Transport Canada Report

• ARAC Tasking Priorities Discussion/Moratorium

• Avionics Harmonization Working Group (HWG) Report

• Ice Protection HWG Report

• Powerplant Installation HWG Report

• Human Factors HWG Report

• Mechanical Systems HWG Report and Approval

• Airworthiness Assurance Report and Approval

• Discussion of tasking on equipment, systems, and installations on transport category airplanes

Thursday, October 16

• General Structures HWG Report and Approval

• 2004 meeting schedule

• Written reports and statuses may be provided for the following HWGs—Engine, Electromagnetic Effects, Flight Test, Seat Test, Flight Control, Flight Guidance, System Design and Analysis, Electrical Systems, Loads and Dynamics, and Design for Security—and the Continued Airworthiness Working Group.

Three working groups will be seeking approval of reports/documents:

1. The Mechanical Systems HWG on ventilation and cabin pressurization;

2. The Airworthiness Assurance Working Group on widespread fatigue damage; and

3. The General Structures HWG on materials, birdstrike, and fatigue and damage tolerance.

Attendance is open to the public, but will be limited to the availability of meeting room space. Please confirm your attendance with the person listed in the FOR FURTHER INFORMATION CONTACT section no later than October 10. Please provide the following information: Full legal name, country of citizenship, and name of your industry association, or applicable affiliation. If you are attending as a public citizen, please indicate so.

The telephone number for participating in the teleconference will be available after October 6 by contacting the person listed in the FOR FURTHER INFORMATION CONTACT section or by going to the ARAC calendar at http://www.faa.gov/avr/arm/araccal.htm. Callers outside the Washington metropolitan area will be responsible for paying long distance charges.

The public must make arrangements by October 10 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on September 26, 2003.
Tony F. Fazio,
Director, Office of Rulemaking.

[FR Doc. 03-25051 Filed 10-2-03; 8:45 am]

BILLING CODE 4910-13-P